DEPARTMENT OF LABOR

Bureau of Labor Statistics

Data Users Advisory Committee; Request for Nominations

AGENCY: Bureau of Labor Statistics (BLS), Department of Labor.

ACTION: Request for nominations to the BLS Data Users Advisory Committee.

SUMMARY: The BLS is soliciting new members for its Data Users Advisory Committee (DUAC). The current membership expired on January 15, 2018. The DUAC provides advice to the Bureau of Labor Statistics from the points of view of data users from various sectors of the U.S. economy, including the labor, business, research, academic, and government communities, on matters related to the analysis, dissemination, and use of the Bureau's statistics, on its published reports, and on gaps between or the need for new Bureau statistics. The Committee will consist of 20 members and will be chosen from a cross-section of individuals who represent a balance of expertise across a broad range of BLS program areas, including employment and unemployment statistics, occupational safety and health statistics, compensation measures, price indexes, and productivity measures; or other areas related to the subject matter of BLS programs. BLS invites persons interested in serving on the DUAC to submit their names for consideration for committee membership.

DATES: Nominations for the DUAC membership should be postmarked October 17, 2019.

ADDRESSES: Nominations for the DUAC membership should be sent to: Commissioner William W. Beach, U.S. Bureau of Labor Statistics, 2 Massachusetts Avenue NE, Room 4040, Washington, DC 20212, or as email attachments to DUACnominations@bls.gov. If submitting electronically, please submit in Word or PDF format.

FOR FURTHER INFORMATION CONTACT: Kathy Mele, Deputy Associate Commissioner, U.S. Bureau of Labor Statistics, 2 Massachusetts Avenue NE, Office of Publications and Special Studies, Room 2850. Washington, DC 20212. Telephone: (202)691-6102. This is not a toll free number.

SUPPLEMENTARY INFORMATION: BLS intends to renew membership in the DUAC for another three years. The BLS operates over two dozen surveys that measure employment and unemployment, compensation, worker safety, productivity, and consumer and producer price movements. BLS provides a wealth of economic data and analyses to support public and private decision making. The DUAC was established to provide advice to the Commissioner of Labor Statistics on the priorities of data users, suggestions concerning the addition of new programs, changes in emphasis of existing programs or cessation of obsolete programs, and advice on potential innovations in data analysis, dissemination, and presentation.

Nominations: BLS is looking for committed DUAC members who have a strong interest in, and familiarity with, BLS data. The Agency is looking for nominees who use and have a comprehensive understanding of economic statistics. The U.S. Bureau of Labor Statistics is committed to bringing greater diversity of thought, perspective, and experience to its advisory committees. Nominees from all races, gender, age, and disabilities are encouraged to apply. Interested persons may nominate themselves or may submit the name of another person who they believe to be interested in and qualified to serve on the DUAC. Nominations may also be submitted by organizations. Nominations should include the name, address, and telephone number of the candidate. Each nomination should include a summary of the candidate's training or experience relating to BLS data specifically, or economic statistics more generally. BLS will conduct a basic background check of candidates before their appointment to the DUAC. The background check will involve accessing publicly available, internet-based sources.

Authority: This notice was prepared in accordance with the provisions of the Federal Advisory Committee Act (FACA), as amended, 5 U.S.C. App. 2, the Secretary of Labor has determined that the Bureau of Labor Statistics Data Users Advisory Committee is in the public interest in connection with the performance of duties imposed upon the Commissioner of Labor Statistics by 29 U.S.C. 1 and 2. This determination follows consultation with the Committee Management Secretariat, General Services Administration.

Signed at Washington, DC, this 11th day of September 2019.
Mark Staniorski,
Chief, Division of Management Systems, Bureau of Labor Statistics.

[FR Doc. 2019-20022 Filed 9-16-19; 8:45 am]

BILLING CODE 4510-24-P